DEPARTMENT OF ENERGY

Federal Energy Regulatory Commission

[Project No. 12635-002; Project No. 12152-000]

Moriah Hydro Corporation; Notice of Pre-Filing Activities in Another Docket

Take notice that some pre-filing activities related to the preparation of the license application for the Mineville Energy Storage Project (P-12635-002) were undertaken in docket number P-12152-000. Documents pertaining to that proceeding are available in the Commission's eLibrary under docket number P-12152.

For further information, please contact John Mudre at (202) 502-8902.

Dated: March 17, 2015.
Kimberly D. Bose,
Secretary.

[FR Doc. 2015-06632 Filed 3-23-15; 8:45 am]

BILLING CODE 6717-01-P